DEPARTMENT OF EDUCATION

Applications for New Awards; Technical Assistance and Dissemination To Improve Services and Results for Children With Disabilities—Model Demonstration Projects To Improve Services and Results for Infants, Toddlers, and Children With Disabilities

AGENCY: Office of Special Education and Rehabilitative Services, Department of Education.

ACTION: Notice.

SUMMARY: The Department of Education (Department) is issuing a notice inviting applications for new awards for fiscal year (FY) 2021 for Model Demonstration Projects to Improve Services and Results for Infants, Toddlers, and Children with Disabilities, Assistance Listing Number 84.326M. This notice relates to the approved information collection under OMB control number 1820-0028.

DATES:

Applications Available: May 21, 2021.

Deadline for Transmittal of Applications: July 20, 2021.

Deadline for Intergovernmental Review: September 20, 2021.

ADDRESSES: For the addresses for obtaining and submitting an application, please refer to our Common Instructions for Applicants to Department of Education Discretionary Grant Programs, published in the Federal Register on February 13, 2019 (84 FR 3768), and available at www.govinfo.gov/content/pkg/FR-2019-02-13/pdf/2019-02206.pdf.

FOR FURTHER INFORMATION CONTACT:

For Absolute Priority 1: Yolanda Lusane, U.S. Department of Education, 400 Maryland Avenue SW, Room 5031A, Potomac Center Plaza, Washington, DC 20202-5076. Telephone: (202) 245-6545. Email: Yolanda.Lusane@ed.gov.

For Absolute Priority 2: Tina Diamond, U.S. Department of Education, 400 Maryland Avenue SW, Room 5142, Potomac Center Plaza, Washington, DC 20202-5076. Telephone: (202) 245-6723. Email: Christina.Diamond@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purpose of the Technical Assistance and Dissemination to Improve Services and Results for Children with Disabilities program is to promote academic achievement and to improve results for children with disabilities by providing technical assistance (TA), supporting model demonstration projects, disseminating useful information, and implementing activities that are supported by scientifically based research.

Priorities: This competition includes two absolute priorities and one competitive preference priority. In accordance with 34 CFR 75.105(b)(2)(v), the absolute priorities are from allowable activities specified in or otherwise authorized in sections 663 and 681(d) of the Individuals with Disabilities Education Act (IDEA) (20 U.S.C. 1463, 1481(d)). The competitive preference priority is from the Department's Administrative Priorities for Discretionary Grant Programs published in the Federal Register on March 9, 2020 (85 FR 13640) (Administrative Priorities).

Absolute Priorities: For FY 2021 and any subsequent year in which we make awards from the list of unfunded applications from this competition, these priorities are absolute priorities. Under 34 CFR 75.105(c)(3), we consider only applications that meet either Absolute Priority 1 or Absolute Priority 2. The Department may fund out of rank order high-quality applications to ensure that at least three projects are funded under each absolute priority. Applicants may apply under both absolute priorities but must submit separate applications. Applicants must clearly identify if the proposed project addresses Absolute Priority 1 or Absolute Priority 2.

These priorities are:

Absolute Priority 1: Model Demonstration Projects to Develop Identification, Screening, Referral, and Tracking Systems for Infants and Toddlers.

Background:

Model demonstrations to improve early intervention, educational, or transitional results for children with disabilities and their families have been authorized under the IDEA since the law's inception. For the purposes of this priority, a model is a set of existing evidence-based practices,¹ including interventions and implementation strategies (i.e., core model components), that research suggests will improve outcomes for children, families, personnel,² administrators, or systems, when implemented with fidelity. Model demonstrations involve investigating the degree to which a given model can be implemented and sustained in real-world settings, by staff employed in those settings, while achieving outcomes similar to those attained under research conditions.

¹ For purposes of this priority, “evidence-based” means the proposed project component is supported by promising evidence, which is evidence of the effectiveness of a key project component in improving a “relevant outcome” (as defined in 34 CFR 77.1), based on a relevant finding from one of the sources identified under “promising evidence” in 34 CFR 77.1.

² As defined by section 651(b) of IDEA, the term “personnel” means special education teachers, regular education teachers, principals, administrators, related services personnel, paraprofessionals, and early intervention personnel serving infants, toddlers, preschoolers, or children with disabilities, except where a particular category of personnel, such as related services personnel, is identified.

IDEA Part C requires States to have a comprehensive child find system in place so that all infants and toddlers with disabilities in the State who are eligible for early intervention services are identified, located, and evaluated (34 CFR 303.302). The comprehensive child find system must be coordinated with other State agencies who serve young children and must focus on early identification of infants and toddlers with disabilities and those at risk for developmental delays. And it must include a system for making referrals to appropriately identify infants and toddlers with disabilities who need early intervention services. There is a strong evidence base demonstrating that the earlier infants and toddlers with, and at risk for, disabilities are identified and served, the better the outcomes for the child, the family, and the educational and social systems that serve them (McCoy et al., 2017). Missed opportunities within the child find system can have short- and long-term effects. Infants and toddlers who are not expeditiously identified may not receive services critical to helping meet developmental milestones in a timely manner, resulting in a delay or absence of foundational skills needed for later academic success.

While States receiving funding under IDEA Part C are required to have a comprehensive child find system in place, data suggest that these systems are not being implemented as effectively or equitably as they should be. Recent IDEA section 618 (20 U.S.C. 1418) child count data for IDEA Part C showed that nationally 3.48 percent of infants and toddlers are receiving services under IDEA, but the percentage of infants and toddlers served varies across States from 0.85 percent to 10.05 percent. Early childhood professionals argue that the percentage of infants and toddlers served by some States under IDEA Part C is too low, considering that the prevalence of developmental delays has been estimated at 13 percent for young children (Rosenberg et al., 2008) and that approximately 14 percent of school-age children with disabilities are served under IDEA Part B.

Many developmental concerns, delays, and disabilities can be identified early, from birth through age two. However, when delays and disabilities are identified at later ages, interventions can become less effective and more costly over time. Studies show, for example, that despite signs often being present by 12-18 months of age, the typical age of diagnosis for autism spectrum disorder is 4 years of age (Centers for Disease Control and Prevention, 2020). In addition, there are groups of children that are less likely to be identified, located, and evaluated for IDEA Part C. The IDEA section 618 child count data collection show that American Indian or Alaska Native, Asian, and Black or African American infants and toddlers are less likely than those in other racial/ethnic groups to be identified and served under IDEA Part C. Results of a study by Feinberg et al. (2011) showed that at 24 months of age, Black children were 5 times less likely to receive IDEA Part C services than white children.

Of particular concern are infants and toddlers who reside in underserved communities and may lack access to quality child care and experience barriers to accessing routine medical care, which can negatively impact developmental screening and referrals, as screenings are typically conducted by pediatricians and in early childhood programs. Infants and toddlers especially vulnerable to developmental or behavioral issues are those negatively affected by the social determinants of health and other adverse childhood or family experiences such as poverty, racism, and toxic stress, including exposure to abuse, neglect, parental drug or alcohol use, and foster care (Lipkin & Macias, 2020). There are data that suggest, however, that more vulnerable children, such as those in the child welfare system or in Early Head Start, are underrepresented in receiving IDEA Part C services (Rosenberg et al., 2013). The novel coronavirus 2019 (COVID-19) pandemic has added to the difficulty of implementing an effective and equitable comprehensive child find system. State IDEA Part C early intervention systems reported a significant drop in the number of infants and toddlers being referred to their programs (IDEA Infant and Toddler Coordinators Association, 2021).

For State IDEA Part C systems to meet the mandate for comprehensive child find systems, they need to engage in evidence-based approaches and models to equitably identify, locate, and evaluate infants and toddlers with disabilities. Components of evidence-based models include robust identification, developmental screening, referral, and tracking systems. Such models should include systematic developmental screening with standardized screeners for all young children at critical ages. Screening results should be shared across service sectors, and families referred to, and supported in following up with, other systems if there is a developmental concern. Families should be monitored to make sure their infants and toddlers are getting the services and supports that they need to thrive. Evidence-based models should also include State and local infrastructure to support collaboration across agencies and to examine their data to understand, based on the eligibility criteria for IDEA Part C, how many infants and toddlers should be enrolled in services versus are enrolled and which groups of underserved infants and toddlers should be targeted for more focused outreach to address equity concerns.

While evidence-based components of child find systems exist within IDEA Part C systems, model demonstration projects are needed to further refine the key components of child find systems and demonstrate how to bring together identification, screening, referral, and tracking practices to serve infants and toddlers with disabilities and those at risk for developmental delays more effectively and equitably. These model demonstration projects will also identify specific implementation strategies and the system supports needed to implement the models in high-need communities to address especially vulnerable infants and toddlers affected by the social determinants of health and adverse childhood or family experiences. These system supports will include how aspects of the models can be delivered remotely, creating efficiencies, and building community capacity to implement a comprehensive child find system.

Priority:

The purpose of this priority is to fund three cooperative agreements to establish and operate evidence-based model demonstration projects. The models must implement identification, screening, referral, and tracking systems across health, early care and education, and social service systems that serve and support infants and toddlers and their families within a local community.

The models must address the infrastructure (e.g., implementation teams, data systems) and ongoing supports needed to foster the development, implementation, and evaluation of identification, screening, referral, and tracking systems that effectively serve infants and toddlers with, and at risk for, disabilities and their families within a local community.

The models must demonstrate methods for identifying evidence-based strategies, to be delivered both in-person and remotely, for equitably identifying, screening, referring, and tracking infants and toddlers with, and those at risk for, disabilities within local communities to ensure a focused outreach to typically underserved families and especially vulnerable infants and toddlers affected by social determinants of health and adverse childhood or family experiences.

The models must capture information about challenges to implementation and determine what system supports may assist in meeting those challenges. Additionally, the models must use State and local data, including identification, referral, and tracking data, to provide information about how agencies within a community are collaborating to implement the model and how the implementation is impacting child find services under IDEA Part C. Specifically, the models must use data to examine how many infants and toddlers should be enrolled in IDEA Part C services versus are enrolled within a community. The models must also examine their impact on how families with infants and toddlers with disabilities are able to access other service delivery systems. The model demonstration projects must assess how models can—

• Improve the capacity of local systems to use evidence-based practices, both in-person and remotely, to equitably identify, screen, refer, and track infants and toddlers with, and at risk for, disabilities;

• Improve the infrastructure of local systems to increase equitable and appropriate referrals to Part C at younger ages;

• Improve collaboration across local programs and systems so that infants and toddlers with, or at risk for, disabilities are connected to appropriate high-quality services that result in improved outcomes for children and families within the community; and

• Improve the understanding of how local systems reduce barriers to, and support, the effective and equitable implementation of aspects of the model.

Applicants must propose models that meet the following requirements:

(a) The model's core intervention components must include—

(1) Identification, screening, referral, and tracking practices that are evidence-based;

(2) Procedures to accurately record the number of infants and toddlers with disabilities that are identified, screened, referred, and tracked to compare to the number that should be identified, screened, referred, and tracked based on State and local data for the community being served;

(3) Procedures for building collaboration and agreements between health, early care and education, and social service systems that serve and support infants and toddlers with disabilities and their families within the community;

(4) Methods for implementing equitable identification, screening, referral, and tracking practices across systems;

(5) Strategies for identifying typically underserved families and vulnerable infants and toddlers such as those impacted by social determinants of health and other adverse childhood or family experiences such as poverty, racism, and toxic stress, including exposure to abuse, neglect, parental drug or alcohol use, or homelessness; those who are part of the child welfare system or a ward of the State; and those who do not have a medical home or access to child care;

(6) Methods for measuring the impact of the model, including fidelity measures on the implementation of the practices, data on services being accessed by infants and toddlers with disabilities and their families, data on timeliness and appropriateness of referrals to IDEA Part C, data on the demographics of infants and toddlers referred to IDEA Part C; and child and family outcomes in the community; ³

³ Applicants must ensure the confidentiality of individual student data, consistent with the Confidentiality of Information regulations under both Part B and Part C of IDEA. These are codified for IDEA Part C in 34 CFR 303.400-303.417 and for IDEA Part B in 34 CFR 300.610-300.627. The IDEA Part B and C confidentiality regulations, respectively, incorporate different definitions, requirements, and exceptions than those under section 444 of the General Education Provisions Act (20 U.S.C. 1232g), commonly known as the “Family Educational Rights and Privacy Act” (FERPA). The IDEA regulations also include several provisions that are specifically related to infants, toddlers, and children with disabilities receiving services under IDEA and provide protections and other requirements beyond the FERPA regulations. Therefore, examining the IDEA requirements first is the most effective and efficient way to meet the confidentiality requirements of both IDEA and FERPA for children with disabilities. Applicants should also be aware of State laws or regulations concerning the confidentiality of individual records. See studentprivacy.ed.gov/resources/ferpaidea-cross-walk and https://studentprivacy.ed.gov/resources/understanding-confidentiality-requirements-applicable-idea-early-childhood-programs-faq. Questions regarding IDEA confidentiality regulations can be directed to the OSEP State contact and questions regarding FERPA can be directed to the Student Privacy Policy Office (SPPO) at https://studentprivacy.ed.gov/contact.

(7) Measures of the model's social validity, i.e., measures of system administrators, personnel, and families' satisfaction with the model components, processes, and outcomes;

(8) Procedures to refine the model based on the ongoing fidelity measures on the implementation of the practices, the data collected on which infants and toddlers and their families are accessing services and which services they are or are not accessing, and child and family outcomes in the community; and

(9) Procedures to share data across systems within the community and at the State level so that the data can be used to remove barriers to, and support the implementation and sustainability of, the identification, screening, referral, and tracking systems.

(b) The model's core implementation components must include—

(1) Criteria and strategies for selecting ⁴ and recruiting sites, which include the health, early care and education, and social service systems in a local community, including approaches to introducing the model to, and promoting the model among, site participants.⁵ Applicants are encouraged to choose sites in a variety of communities (e.g., urban, rural, suburban) that are comprised of typically underserved families and vulnerable populations of infants and toddlers (e.g., those impacted by social determinants of health and other adverse childhood or family experiences such as poverty, racism, and toxic stress, including exposure to abuse, neglect, parental drug or alcohol use, or homelessness; those who are part of the child welfare system or a ward of the State; and those who do not have a medical home or access to child care);

⁴ For factors to consider when selecting model demonstration sites, the applicant should refer to Assessing Sites for Model Demonstration: Lessons Learned for OSEP Grantees at mdcc.sri.com/documents/MDCC_Site_Assessment_Brief_09-30-11.pdf. The document also contains a site assessment tool.

⁵ For factors to consider when preparing for model demonstration implementation, the applicant should refer to Preparing for Model Demonstration Implementation at mdcc.sri.com/documents/MDCC_PreparationStage_Brief_Apr2013.pdf.

(2) A lag site implementation design, which allows for model development and refinement at the first site in year one of the project period, with sites two and three implementing a revised model based on data from the first site beginning in subsequent project years;

(3) A professional development component that includes a strategy to work with administrators and personnel, to enable sites to implement the identification, screening, referral, and tracking model with fidelity; and

(4) Measures of the results of the professional development required by paragraph (b)(3) of this section.

(c) The core strategies for sustaining the model must include—

(1) Procedures and materials that permit current and future site-based staff to replicate or appropriately tailor and sustain the model at any site; ⁶

⁶ For a guide on documenting model demonstration sustainment and replication, the applicant should refer to Planning for Replication and Dissemination From the Start: Guidelines for Model Demonstration Projects (Revised) at mdcc.sri.com/documents/MDCC_ReplicationBrief_SEP2015.pdf.

(2) Guidelines and procedures to—

(i) Help administrators support equitable identification, screening, referral, and tracking systems;

(ii) Determine the identification, screening, referral, and tracking practices that can be delivered remotely;

(iii) Establish collaboration agreements among agencies and systems;

(iv) Collect and analyze data to identify typically underserved families and vulnerable populations of infants and toddlers within communities and examine IDEA Part C child find practices;

(v) Provide a continuum of child and family support services across health, early care and education, and social service systems; and

(vi) Collect data regarding the connection among identification, screening, referral, and tracking strategies used, the fidelity of the implementation of practices, the services delivered, and child and family outcomes; and communicate regularly about the data at the local and State levels;

(3) Strategies for the grantee to develop a manual, toolkit, and other resources for disseminating information on the final version of the model by the end of the grant period, such as developing easily accessible online products that specify model core components critical for improving outcomes, professional development materials, fidelity measures, key outcomes from the model (e.g., increases in the equity of referrals), and implementation procedures for disseminating the model and its components; and

(4) Strategies for the grantee to assist State and local health, early care and education, and social service systems within the State to scale up a model and its components.

To be considered for funding under this absolute priority, applicants must meet the requirements contained in this priority.

Application Requirements:

An applicant must include in its application—

(a) A detailed review of the literature addressing the proposed evidence-based model or its implementation components and the proposed processes to improve equitable identification, screening, referral, and tracking systems within a site;

(b) A logic model ⁷ that depicts, at a minimum, the goals, activities, outputs, and outcomes (described in paragraph (a) under the heading Priority) of the proposed model demonstration project.

⁷ Logic model (also referred to as a theory of action) means a framework that identifies key project components of the proposed project (i.e., the active “ingredients” that are hypothesized to be critical to achieving the relevant outcomes) and describes the theoretical and operational relationships among the key project components and relevant outcomes.

Note: The following websites provide resources for constructing logic models: www.osepideasthatwork.org/logicModel and www.osepideasthatwork.org/resources-grantees/program-areas/ta-ta/tad-project-logic-model-and-conceptual-framework;

(c) A description of the activities and measures to be incorporated into the proposed model demonstration project (i.e., the project design) to develop equitable identification, screening, referral, and tracking systems, including a timeline of how and when the components are introduced within the model. A detailed and complete description must include the following:

(1) Each of the identification, screening, referral, and tracking system components.

(2) The existing and proposed measures of fidelity of the implementation of evidence-based identification, screening, referral, and tracking practices; services being accessed by infants and toddlers with disabilities and their families; timeliness and appropriateness of referrals to IDEA Part C; demographics of infants and toddlers referred to IDEA Part C; and child and family outcomes in the community, as well as social validity measures. The measures must be described as completely as possible, referenced as appropriate, and included, when available, in Appendix A.

(3) Each of the implementation components, including, at a minimum, those listed under paragraph (b) under the heading Priority. The existing or proposed implementation fidelity measures must be described as completely as possible, referenced as appropriate, and included, when available, in Appendix A. In addition, this description must include—

(i) Demographics (e.g., race and ethnicity, social economic status, primary home language) of the families of infants and toddlers with disabilities, including the health, early care and education, and social services that they receive, who live within the local communities that have been identified and successfully recruited as implementation sites for the purposes of this application using the selection and recruitment strategies described in paragraph (b)(1) under the heading Priority;

Note: Applicants are encouraged to identify, to the extent possible, the sites willing to participate in the applicant's model demonstration. Final site selection will be determined in consultation with the Office of Special Education Programs (OSEP) project officer following the kick-off meeting described in paragraph (f)(1) of these application requirements; and

(ii) The lag site implementation design for implementation consistent with the requirements in paragraph (b)(2) under the heading Priority.

(4) Each of the strategies to promote sustaining and replicating the model, including, at a minimum, those listed under paragraph (c) under the heading Priority.

(5) The cost of the fully developed model and its implementation, including the resources used by the model as well as their actual or estimated costs.⁸

⁸ See the IES Cost Analysis Starter Kit at https://ies.ed.gov/seer/cost_analysis.asp.

(d) A description of the evaluation activities and measures to be incorporated into the proposed model demonstration project. A detailed and complete description must include—

(1) A formative evaluation plan, consistent with the project's logic model, that includes evaluation questions, sources of data, a timeline for data collection, and analysis plans. The plan must show how the outcome data (e.g., child, family, or systems measures, social validity) and implementation data (e.g., fidelity, effectiveness of professional development activities) will be used separately or in combination to improve the project during the performance period. These data will be reported in the annual performance report (APR). The plan also must outline how these data will be reviewed by project staff, when they will be reviewed, and how they will be used during the course of the project to adjust the model or its implementation to increase the model's usefulness, generalizability, and potential for sustainability; and

(2) A summative evaluation plan, including a timeline, to collect and analyze data on changes to child, family, or system outcomes over time or relative to comparison groups that can be reasonably attributable to project activities. The plan must show how the child, family, or system outcome and implementation data collected by the project will be used separately or in combination to demonstrate the promise of the model.

(e) A plan to disseminate the results of the project, including the findings that show the model had a beneficial effect on outcomes, the final version of the implemented model, and its associated products (such as curricula, professional development materials, implementation procedures, measures and assessments, guides, and toolkits). The dissemination plan must include the audiences who would most likely benefit from implementing the model and detailed strategies for reaching these audiences. In disseminating the results of the project, grantees must, at a minimum: Collaborate with OSEP-funded TA centers, publish in research and practitioner journals, and present at meetings of professional associations. Grantees may also consider collaborating with personnel preparation programs and OSEP-funded State Personnel Development Grant projects; providing webinars, training sessions, or workshops to State and local agencies; and engaging with other federally funded TA centers, such as Head Start Training and Technical Assistance Centers, research and development centers, research networks, or Regional Educational Laboratories.

(f) A budget for attendance at the following:

(1) A one and one-half day kick-off meeting to be held in Washington, DC, or virtually, after receipt of the award.

(2) A three-day project directors' conference in Washington, DC, or virtually, occurring twice during the project performance period.

(3) Four travel days spread across years two through four of the project period to attend planning meetings, Department briefings, Department-sponsored conferences, and other meetings, as requested by OSEP, to be held in Washington, DC, or virtually.

Other Project Activities:

To meet the requirements of this priority, each project, at a minimum, must—

(a) Communicate and collaborate on an ongoing basis with other Department-funded projects, consistent with paragraph (e) under the heading Application Requirements;

(b) Maintain ongoing telephone and email communication with the OSEP project officer and the other model demonstration projects funded under this priority;

(c) Provide information annually using a template that captures descriptive data on project site selection and the process of implementing the model in the sites.

Note: The following website provides more information about implementation research: http://nirn.fpg.unc.edu/learn-implementation.

(d) If the project maintains a website, include relevant information about the model, the intervention, and the demonstration activities and ensure that the website meets government- or industry-recognized standards for accessibility; and

(e) Ensure that annual progress toward meeting project goals is posted on the project website.

Fifth Year of Project

The Secretary may extend a project one year beyond the initial 48 months to disseminate the results of the project if the grantee is achieving the intended outcomes of the project (as demonstrated by data gathered as part of the project evaluation) and making a positive contribution to identifying the system supports needed to implement the model. Each applicant must include in its application a plan for the full 60-month period. The fifth year must be budgeted at $100,000. In deciding whether to continue funding the project for the fifth year, the Secretary will consider the requirements of 34 CFR 75.253(a), including—

(a) The recommendations of a review team consisting of the OSEP project officer and other experts selected by the Secretary. This review will be held during the first half of the fourth year of the project period;

(b) The success and timeliness with which the requirements of the negotiated cooperative agreement have been or are being met by the project; and

(c) The degree to which the project's activities have contributed to changed practices and improved outcomes for children with disabilities.

Absolute Priority 2: Model Demonstration Projects To Enhance Social, Emotional, and Mental Health Services and Supports for Middle or High School Youth With and at Risk for Disabilities.

Background:

Model demonstrations to improve early intervention, educational, or transitional results for children with disabilities and their families have been authorized under the IDEA since the law's inception. For the purposes of this priority, a model is a set of existing evidence-based practices,⁹ including interventions and implementation strategies (i.e., core model components), that research suggests will improve outcomes for children, families, personnel,¹⁰ administrators, or systems, when implemented with fidelity. Model demonstrations involve investigating the degree to which a given model can be implemented and sustained in real-world settings, by staff employed in those settings, while achieving outcomes similar to those attained under research conditions.

⁹ For purposes of this priority, “evidence-based” means the proposed project component is supported by promising evidence, which is evidence of the effectiveness of a key project component in improving a “relevant outcome” (as defined in 34 CFR 77.1), based on a relevant finding from one of the sources identified under “promising evidence” in 34 CFR 77.1.

¹⁰ As defined by section 651(b) of IDEA, the term “personnel” means special education teachers, regular education teachers, principals, administrators, related services personnel, paraprofessionals, and early intervention personnel serving infants, toddlers, preschoolers, or children with disabilities, except where a particular category of personnel, such as related services personnel, is identified.

Research shows that by seventh grade, 40 percent of students will have experienced a mental health issue such as anxiety or depression and that, each year, 13 to 20 percent of school-aged children and youth meet the criteria for a mental health disorder (Centers for Disease Control and Prevention, 2013). Suicide is the second leading cause of death among persons aged 10-34 and health data show that the percentages of adolescents not receiving preventive care such as well-child checkups are higher for those ages 16-17 compared with those in younger age groups (Hedegaard et al., 2020; Black et al., 2016). For the purposes of this priority, mental health includes emotional, psychological, and social well-being. According to the Centers for Disease Control and Prevention, mental health effects how we think, feel, and act and helps determine how we handle stress, relate to others, and make healthy choices (Centers for Disease Control and Prevention, n.d.). In schools, we prioritize three critical and inter-related components of mental health support: Social (how we relate to others), emotional (how we feel), and behavioral (how we act) support to promote overall student well-being positive learning outcomes (Chafouleas, 2020).

Students with disabilities are at a higher risk of experiencing a mental health disorder than their non-disabled peers. For example, 60 percent of children with attention deficit/hyperactivity disorder (ADHD) had at least one other mental, emotional, or behavioral disorder (Danielson et al., 2018). Students with mental health disorders are more likely to exhibit disruptive behavior, have chronic absences, have poor academic performance, and drop out of school (Anderson & Cardoza, 2016). Students with both a disability and a mental health disorder have increased risk of negative post-school outcomes such as a reduced quality of life, unemployment, underemployment, and possibly prison as well (Darney et al., 2013; Hawton et al., 2012). Furthermore, the COVID-19 pandemic has negatively impacted the mental health of school-aged children and youth, with 45 percent of parents with children in grades kindergarten through 12 indicating that their child's mental health is suffering (Calderon, 2020). Even though there is a growing number of school-aged children exhibiting mental health concerns, it is estimated that nearly 60 percent receive no treatment, which can be attributed to lack of access and the stigma that comes with mental health issues (National Association of School Psychologists, 2016).

Although the primary purpose of schools is to deliver an effective academic education, several studies of children's mental health have acknowledged that American schools have become a primary source of mental health services for youth. There is a strong evidence base demonstrating that integrating school-based mental health services and supports can improve academic, social and emotional, and behavioral outcomes for students with and at risk for disabilities (Barry et al., 2013; Hoover et al., 2019; Kern et al., 2017; Kutash et al., 2011).

Despite many children receiving mental health services from their school, there is a limited body of research identifying how to effectively provide those services within the school context. Approximately 20 percent of children have documented mental health needs that require intervention; however, only one-third of these children receive any services. Experts attribute the gap between need and treatment to the shortage of mental health providers and the increase in the number of children requiring services. This gap is significantly greater in rural communities where there is a lack of child psychologists and school or community providers trained in mental health awareness and intervention (Centers for Disease Control and Prevention, 2018). Gaps in access to mental health services are also prevalent in high-risk populations, including students with disabilities; students of color; students in foster care; military-connected youth; youth who identify as lesbian, gay, bisexual, transgender, queer, and intersex (LGBTQI+); youth involved with the juvenile justice system; and youth who are homeless or abusing controlled substances. Although mental health services are provided in schools, models are needed that demonstrate interagency coordination (i.e., coordination among school-based services and community-based resources, such as community mental health and primary care providers) and coordinated service delivery ¹¹ of evidence-based school mental health services and supports, including prevention, screening, data-based decision making, and effective interventions that can be implemented through approaches (e.g., schoolwide,¹² targeted,¹³ and intensive ¹⁴) that can be scaled up to address the needs of high-risk youth, with and at risk for disabilities, including those in rural communities to improve educational, behavioral, and mental health outcomes. The current system is ineffective and inefficient for many students, families, and staff, with notable problems before the pandemic and exacerbated as schools work to respond and recover from COVID impacts. To address the current service delivery limitations, there is increasing recognition of the need to move away from services and supports characterized by ad-hoc involvement of mental health system staff in schools toward approaches that clearly integrate education and mental health systems. For example, within middle schools and high schools, services and supports are often fragmentated because those providing direct services to students, including teachers, counselors, school psychologists, and social workers, are often siloed and work in relative isolation from one another. Additionally, information is needed to determine how aspects of the models can (1) be delivered remotely to increase access to mental health services and supports, either due to lack of access or during disasters (e.g., the pandemic, hurricanes, etc.); (2) focus on integrating prevention, universal screening, and targeted interventions in a school-based setting; and (3) increase the capacity of schools to connect students with mental health providers and specialized mental health professionals.

¹¹ For the purposes of this priority, “coordinated service delivery” refers to services and supports that integrate the education and mental health systems by removing barriers to accessing social, emotional, and school mental health in school and the community.

¹² For the purposes of this priority, “schoolwide” approaches refer to services and supports to benefit all children and staff across all school settings.

¹³ For the purposes of this priority, “targeted” approaches refer to services and supports provided to children who are not successful receiving schoolwide approaches alone. These approaches are more focused and intensive than schoolwide approaches, are often time-limited, and are frequently applied in small group settings.

¹⁴ For the purposes of this priority, “intensive” approaches refer to individualized approaches that are specifically designed to address persistent difficulties. These approaches are implemented with greater frequency and for an extended duration than is commonly available in a typical classroom or early intervention setting or require personnel to have knowledge and skills in identifying and implementing multiple evidence-based interventions.

Priority:

The purpose of this priority is to fund three cooperative agreements to establish and operate evidence-based model demonstration projects. The models must establish and implement an evidence-based integrated school mental health program to enhance social, emotional, and mental health services and supports in middle school or high school settings to support youth with and at risk for disabilities.

The models must address the infrastructure (e.g., implementation teams) and ongoing supports needed to foster the development, implementation, and evaluation of an integrated school mental health services system to support youth with and at risk for disabilities.

The models must demonstrate methods for implementing school-based prevention and universal interventions, early identification of youth with mental health needs, and targeted and intensive school interventions with coordinated service delivery in middle or high schools. The models must use data to provide information about how integrated school mental health services and supports, including interagency coordination and coordinated service delivery, can address the full continuum of student needs and affect child academic, social and emotional, and behavioral ¹⁵ outcomes for youth with and at risk for disabilities. The model demonstration projects must assess how models can—

¹⁵ For the purposes of this priority, “behavioral” refers to attendance, discipline referrals, safety infractions, suspensions and expulsions, and dropout rates.

• Improve the capacity of schools and school personnel to identify and support youth with and at risk for disabilities, particularly from underserved groups, who may benefit from or require social, emotional, or mental health services and supports;

• Establish, or support implementation of evidence-based integrated school mental health services and supports, to include prevention and intervention, that improve outcomes for youth with and at risk for disabilities who may benefit from or require social, emotional, or mental health services and supports;

• Improve the capacity of the school and build infrastructure to engage in interagency coordination and coordinated service delivery to support youth with and at risk for disabilities who may benefit from or require social, emotional, or mental health services and supports; and

• Improve understanding of barriers to interagency coordination and coordinated service delivery, including lack of local mental health providers, and how State agencies could reduce barriers to, and support, development and implementation of integrated school mental health services and supports for youth with and at risk for disabilities.

Applicants must propose models that meet the following requirements:

(a) The model's core intervention components must include—

(1) Integrated school social, emotional, and mental health services and supports that are evidence-based;

(2) Ongoing measures of interagency coordination and coordinated service delivery and academic, social and emotional, and behavioral outcomes for youth with and at risk for disabilities who may benefit from or require social, emotional, or mental health services and supports;

(3) Professional development to support school personnel's appropriate and timely use of universal screening and referral data to inform the need for school mental health services and supports, intensity, and frequency dependent on school and student needs;

(4) Procedures to refine the model based on the ongoing evaluation of integrated school mental health services and supports, fidelity of the implementation of evidence-based practices, and student academic, social and emotional, and behavioral outcomes;

(5) Procedures for schools to share data and inform policy at a central office, within the community, and at State levels so that the data can be used to make decisions to remove barriers to, and support, implementation and sustainability of integrated school mental health services and supports; and

(6) Measures of the model's social validity, i.e., measures of personnel, family, student, and administrator satisfaction with the model components, processes, and outcomes.

(b) The model's core implementation components must include—

(1) Criteria and strategies for selecting ¹⁶ and recruiting sites and the proposed integrated mental health services and supports for each site, including approaches to introducing the model to, and promoting the model among, site participants.¹⁷ Applicants are encouraged to choose sites from a variety of settings (e.g., urban, tribal, rural, suburban) and populations (e.g., concentration of students receiving free or reduced-price lunch); however, each project must include at least three middle or at least three high schools, with at least one being rural;

¹⁶ For factors to consider when selecting model demonstration sites, the applicant should refer to Assessing Sites for Model Demonstration: Lessons Learned for OSEP Grantees at mdcc.sri.com/documents/MDCC_Site_Assessment_Brief_09-30-11.pdf. The document also contains a site assessment tool.

¹⁷ For factors to consider when preparing for model demonstration implementation, the applicant should refer to Preparing for Model Demonstration Implementation at mdcc.sri.com/documents/MDCC_PreparationStage_Brief_Apr2013.pdf.

(2) A lag site implementation design, which allows for model development and refinement at the first site in year one of the project period, with sites two and three implementing a revised model based on data from the first site beginning in subsequent project years;

(3) A professional development component that includes a strategy to work with administrators, to enable site-based personnel to implement, with fidelity, integrated school mental health services and supports that are culturally responsive; and

(4) Measures of the results of the professional development required by paragraph (b)(3) of this section.

(c) The core strategies for sustaining the model must include—

(1) Procedures and materials that permit current and future site-based staff to replicate or appropriately tailor and sustain the model at any site; ¹⁸

¹⁸ For a guide on documenting model demonstration sustainment and replication, the applicant should refer to Planning for Replication and Dissemination From the Start: Guidelines for Model Demonstration Projects (Revised) at mdcc.sri.com/documents/MDCC_ReplicationBrief_SEP2015.pdf.

(2) Guidelines and procedures to—

(i) Help administrators support integrated school mental health services and supports, interagency coordination, and coordinated service delivery;

(ii) Provide professional development related to integrated school mental health services and supports including interagency coordination and coordinated service delivery to school personnel;

(iii) Collect data on the effectiveness of the integrated school mental health services and supports, interagency coordination, and coordinated service delivery, and impact of these services on student academic, social and emotional, and behavioral outcomes;

(iv) Match the school mental health service and intensity of the strategies based on school and student need; and

(v) Collect data regarding the increased access of mental health services and supports; the types, frequency, and intensity of services; demographics of students that received services; and the fidelity of the implementation of the model, and communicate regularly about the data at the local, regional (as appropriate), and State levels;

(3) Strategies for the grantee to develop a manual, toolkit, and other resources for disseminating information on the final version of the model by the end of the grant period, such as developing easily accessible online products that specify model core components critical for improving outcomes, professional development materials, fidelity measures, key outcomes from the model, and implementation procedures for disseminating the model and its components; and

(4) Strategies for the grantee to assist State agencies (e.g., State educational agencies (SEAs) and local educational agencies (LEAs)) within the State to scale up a model and its components.

To be considered for funding under this absolute priority, applicants must meet the requirements contained in this priority.

Application Requirements:

An applicant must include in its application—

(a) A detailed review of the literature addressing the proposed evidence-based model or its implementation components and the proposed processes to establish and implement integrated school mental health services and supports for middle or high school youth with and at risk for disabilities;

(b) A logic model ¹⁹ that depicts, at a minimum, the goals, activities, outputs, and outcomes (described in paragraph (a) under the heading Priority) of the proposed model demonstration project.

¹⁹ Logic model (also referred to as a theory of action) means a framework that identifies key project components of the proposed project (i.e., the active “ingredients” that are hypothesized to be critical to achieving the relevant outcomes) and describes the theoretical and operational relationships among the key project components and relevant outcomes. See 34 CFR 77.1.

Note: The following websites provide resources for constructing logic models: www.osepideasthatwork.org/logicModel and www.osepideasthatwork.org/resources-grantees/program-areas/ta-ta/tad-project-logic-model-and-conceptual-framework;

(c) A description of the activities and measures to be incorporated into the proposed model demonstration project (i.e., the project design) to develop and implement integrated school mental health services and supports for youth with and at risk for disabilities, including a timeline of how and when the components are introduced within the model. A detailed and complete description must include the following:

(1) Each of the integrated school mental health services and support components.

(2) The existing and proposed measures of effectiveness of integrated school mental health services and supports and interagency coordination and coordinated service delivery; fidelity of the implementation of evidence-based practices; cultural responsiveness of integrated school mental health services and supports, education system characteristics, and child outcomes, as well as social validity measures. The measures must be described as completely as possible, referenced as appropriate, and included, when available, in Appendix A.

(3) Each of the implementation components, including, at a minimum, those listed under paragraph (b) under the heading Priority. The existing or proposed implementation fidelity measures, including those measuring the fidelity of the professional development strategy, must be described as completely as possible, referenced as appropriate, and included, when available, in Appendix A. In addition, this description must include—

(i) Demographics, including, at a minimum, the settings of, and children participating in, all of the implementation sites that have been identified and successfully recruited for the purposes of this application using the selection and recruitment strategies described in paragraph (b)(1) under the heading Priority;

Note: Applicants are encouraged to identify, to the extent possible, the sites willing to participate in the applicant's model demonstration and if the project is working with middle or high school sites. Final site selection will be determined in consultation with the OSEP project officer following the kick-off meeting described in paragraph (f)(1) of these application requirements; and

(ii) The lag site implementation design for implementation consistent with the requirements in paragraph (b)(2) under the heading Priority.

(4) Each of the strategies to promote sustaining and replicating the model, including, at a minimum, those listed under paragraph (c) under the heading Priority; and

(5) The cost of the fully developed model and its implementation, including the resources used by the model as well as their actual or estimated costs.²⁰

²⁰ See the IES Cost Analysis Starter Kit at https://ies.ed.gov/seer/cost_analysis.asp.

(d) A description of the evaluation activities and measures to be incorporated into the proposed model demonstration project. A detailed and complete description must include—

(1) A formative evaluation plan, consistent with the project's logic model, that includes evaluation questions, sources of data, a timeline for data collection, and analysis plans. The plan must show how the outcome data (e.g., child, personnel, or systems measures, social validity) and implementation data (e.g., fidelity, effectiveness of professional development activities) will be used separately or in combination to improve the project during the performance period. These data will be reported in the annual performance report (APR). The plan also must outline how these data will be reviewed by project staff, when they will be reviewed, and how they will be used during the course of the project to adjust the model or its implementation to increase the model's usefulness, generalizability, and potential for sustainability; and

(2) A summative evaluation plan, including a timeline, to collect and analyze data on changes to child, teacher, service provider, or system outcomes over time or relative to comparison groups that can be reasonably attributable to project activities. The plan must show how the child, personnel, or system outcome and implementation data collected by the project will be used separately or in combination to demonstrate the promise of the model.

(e) A plan to disseminate the results of the project, including the findings that show the model had a beneficial effect on outcomes, the final version of the implemented model, and its associated products (such as curricula, professional development materials, implementation procedures, measures and assessments, guides, and toolkits). The dissemination plan must include the audiences who would most likely benefit from implementing the model and detailed strategies for reaching these audiences. In disseminating the results of the project, grantees must, at a minimum: Collaborate with OSEP-funded TA centers, publish in research and practitioner journals, and present at meetings of professional associations. Grantees may also consider collaborating with personnel preparation programs and OSEP-funded State Personnel Development Grant projects; providing webinars, training sessions, or workshops to State and local agencies; and engaging with other ED-funded TA centers, such as comprehensive centers, research and development centers, research networks, or Regional Educational Laboratories.

(f) A budget for attendance at the following:

(1) A one and one-half day kick-off meeting to be held in Washington, DC, or virtually, after receipt of the award.

(2) A three-day project directors' conference in Washington, DC, or virtually, occurring twice during the project performance period.

(3) Four travel days spread across years two through four of the project period to attend planning meetings, Department briefings, Department-sponsored conferences, and other meetings, as requested by OSEP, to be held in Washington, DC, or virtually.

Other Project Activities:

To meet the requirements of this priority, each project, at a minimum, must—

(a) Communicate and collaborate on an ongoing basis with other Department-funded projects, consistent with paragraph (e) under the heading Application Requirements;

(b) Maintain ongoing telephone and email communication with the OSEP project officer and the other model demonstration projects funded under this priority;

(c) Provide information annually using a template that captures descriptive data on project site selection and the process of implementing the model in the sites.

Note: The following website provides more information about implementation research: http://nirn.fpg.unc.edu/learn-implementation.

(d) If the project maintains a website, include relevant information about the model, the intervention, and the demonstration activities and ensure that the website meets government- or industry-recognized standards for accessibility; and

(e) Ensure that annual progress toward meeting project goals is posted on the project website.

Fifth Year of Project

The Secretary may extend a project one year beyond the initial 48 months to disseminate the results of the project if the grantee is achieving the intended outcomes of the project (as demonstrated by data gathered as part of the project evaluation) and making a positive contribution to identifying the system supports needed to implement the model. Each applicant must include in its application a plan for the full 60-month period. The fifth year must be budgeted at $100,000. In deciding whether to continue funding the project for the fifth year, the Secretary will consider the requirements of 34 CFR 75.253(a), including—

(a) The recommendations of a review team consisting of the OSEP project officer and other experts selected by the Secretary. This review will be held during the first half of the fourth year of the project period;

(b) The success and timeliness with which the requirements of the negotiated cooperative agreement have been or are being met by the project; and

(c) The degree to which the project's activities have contributed to changed practices and improved outcomes for children with disabilities.

Competitive Preference Priority: For FY 2021 and any subsequent year in which we make awards from the list of unfunded applications from this competition, this priority is a competitive preference priority. Under 34 CFR 75.105(c)(2)(i), we award an additional five points to an application that meets the competitive preference priority.

This priority is:

Applications from New Potential Grantees (0 or 5 points).

(a) Under this priority, an applicant must demonstrate that the applicant has not had an active discretionary grant under the 84.326M program, including through membership in a group application submitted in accordance with 34 CFR 75.127-75.129, five years before the deadline date for submission of applications under the program.

(b) For the purpose of this priority, a grant or contract is active until the end of the grant's or contract's project or funding period, including any extensions of those periods that extend the grantee's or contractor's authority to obligate funds.

References:

Anderson, M., & Cardoza, K. (2016, August 31). Mental health in schools: A hidden crisis affecting millions of students. NPR. www.npr.org/sections/ed/2016/08/31/464727159/mental-health-in-schools-a-hidden-crisis-affecting-millions-of-students.

Barry, M.M., Clarke, A.M., Jenkins, R., & Patel, V. (2013). A systematic review of the effectiveness of mental health promotion interventions for young people in low and middle income countries. BMC Public Health, 13, 1-19. https://doi.org/10.1186/1471-2458-13-835.

Black, L.I., Nugent, C.N., & Vahratian, A. (2016). Access and utilization of selected preventive health services among adolescents aged 10-17 (NCHS Data Brief, No. 246). National Center for Health Statistics. www.cdc.gov/nchs/data/databriefs/db246.pdf.

Calderon, V.J. (2020). U.S. Parents Say COVID-19 Harming Child's Mental Health. Gallup. https://news.gallup.com/poll/312605/parents-say-covid-harming-child-mental-health.aspx.

Centers for Disease Control and Prevention. (n.d.). Mental health. www.cdc.gov/mentalhealth/index.htm.

Centers for Disease Control and Prevention. (2013). Mental health surveillance among children—United States, 2005-2011. Morbidity and Mortality Weekly Report, 62, 1-35. www.cdc.gov/mmwr/preview/mmwrhtml/su6202a1.htm?x_cid=su6202a1_w.

Centers for Disease Control and Prevention. (2018). Providing access to mental health services for children in rural areas: Policy brief. www.cdc.gov/ruralhealth/child-health/images/Mental-Health-Services-for-Children-Policy-Brief-H.pdf.

Centers for Disease Control and Prevention. (2020). Prevalence of autism spectrum disorders among children aged 8 years: Autism and developmental disorders monitoring network, 11 sites, United States, 2016. MMWR Surveillance Summaries, 69 (4), 1-12.

Chafouleas, S. (2020, August). Four questions to ask now in preparing your child for school. Psychology Today. www.psychologytoday.com/us/blog/promoting-student-well-being/202008/4-questions-ask-now-in-preparing-your-child-school.

Darney, D., Reinke, W.M., Herman, K.C., Stormont, M., & Ialongo, N.S. (2013). Children with co-occurring academic and behavior problems in first grade: Distal outcomes in twelfth grade. Journal of School Psychology, 51 (1), 117-128. https://doi.org/10.1016/j.jsp.2012.09.005.

Danielson, M.L., Bitsko, R.H., Ghandour, R.M., Holbrook, J.R., Kogan, M.D., & Blumberg, S.J. (2018). Prevalence of parent-reported ADHD diagnosis and associated treatment among U.S. children and adolescents, 2016. Journal of Clinical Child & Adolescent Psychology, 47 (2), 199-212. https://doi.org/10.1080/15374416.2017.1417860.

Feinberg E., Silverstein M., Donahue S., & Bliss R. (2011). The impact of race on participation in part C early intervention services. Journal of Developmental & Behavioral Pediatrics, 32 (4), 284-291.

Hawton, K., Saunders, K., & O'Connor, R.C. (2012). Self-harm and suicide in adolescents. The Lancet, 379, 2373-2382. https://doi.org/10.1016/S0140-6736(12)60322-5.

Hedegaard, H., Curtin, S.C., & Warner, M. (2020). Increase in suicide mortality in the United States, 1999-2018 (NCHS Data Brief, No. 362). National Center for Health Statistics. www.cdc.gov/nchs/data/databriefs/db362-h.pdf.

Hoover, S., Lever, N., Sachdev, N., Bravo, N., Schlitt, J., Acosta Price, O., Sheriff, L., & Cashman, J. (2019). Advancing comprehensive school mental health: Guidance from the field. National Center for School Mental Health. University of Maryland School of Medicine. www.schoolmentalhealth.org/AdvancingCSMHS.

IDEA Infant and Toddler Coordinators Association. (2021, January 13). Presentation to the Office of Special Education Programs [Unpublished report]. U.S. Department of Education, Office of Special Education Programs.

Kern, L., Mathur, S.R., Albrecht, S.F., Poland, S., Rozalski, M., & Skiba, R.J. (2017). The need for school-based mental health services and recommendations for implementation. School Mental Health, 9, 205-217. https://doi.org/10.1007/s12310-017-9216-5.

Kutash, K., Duchnowski, A.J., & Green, A.L. (2011). School-based mental health programs for students who have emotional disturbances: Academic and social-emotional outcomes. School Mental Health, 3, 191-208. https://doi.org/10.1007/s12310-011-9062-9.

Lipkin, P.H., Macias, M.M., & Council on Children with Disabilities, Section on Developmental and Behavioral Pediatrics. (2020). Promoting Optimal Development: Identifying Infants and Young Children With Developmental Disorders Through Developmental Surveillance and Screening. Pediatrics, 145(1), e20193449. https://doi.org/10.1542/peds.2019-3449.

McCoy, D.C., Yoshikawa, H., Ziol-Guest, K.M., Duncan, G.J., Schindler, H.S., Magnuson, K., Yang, R., Koepp, A., & Shonkoff, J.P. (2017). Impacts of early childhood education on medium- and long-term educational outcomes. Educational Researcher, 46(8), 474-487.

National Association of School Psychologists. (2016). School-based mental health services: Improving student learning and well-being. www.nasponline.org/resources-and-publications/resources-and-podcasts/mental-health/school-psychology-and-mental-health/school-based-mental-health-services.

Rosenberg, S.A., Robinson, C.C., Shaw, E.F., & Ellison, M.C. (2013). Part C early intervention for infants and toddlers: Percentage eligible versus served. Pediatrics, 131(1), 38-46.

Rosenberg, S.A., Zhang, D., & Robinson, C.C. (2008). Prevalence of developmental delays and participation in early intervention services for young children. Pediatrics, 121, e1503-e1509.

Waiver of Proposed Rulemaking: Under the Administrative Procedure Act (APA) (5 U.S.C. 553) the Department generally offers interested parties the opportunity to comment on proposed priorities. Section 681(d) of IDEA, however, makes the public comment requirements of the APA inapplicable to the priorities in this notice.

Program Authority: 20 U.S.C. 1463 and 1481.

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The Administrative Priorities.

Note: The regulations in 34 CFR part 79 apply to all applicants except federally recognized Indian Tribes.

Note: The regulations in 34 CFR part 86 apply to institutions of higher education (IHEs) only.

II. Award Information

Type of Award: Cooperative agreements.

Estimated Available Funds: $2,400,000.

Contingent upon the availability of funds and the quality of applications, we may make additional awards in FY 2022 from the list of unfunded applications from this competition.

Maximum Award: We will not make an award exceeding $1,600,000 per project for a project period of 60 months.

Note: Applicants must describe, in their applications, the amount of funding being requested for each 12-month budget period. The fifth-year budget period should be budgeted at $100,000.

Estimated Number of Awards: 6.

Note: The Department is not bound by any estimates in this notice.

Project Period: Up to 60 months.

III. Eligibility Information

1. Eligible Applicants: SEAs; State lead agencies under Part C of the IDEA; LEAs, including charter schools that are considered LEAs under State law; IHEs; other public agencies; private nonprofit organizations; outlying areas; freely associated States; Indian Tribes or Tribal organizations; and for-profit organizations.

2. a. Cost Sharing or Matching: This competition does not require cost sharing or matching.

b. Indirect Cost Rate Information: This program uses an unrestricted indirect cost rate. For more information regarding indirect costs, or to obtain a negotiated indirect cost rate, please see www2.ed.gov/about/offices/list/ocfo/intro.html.

c. Administrative Cost Limitation: This program does not include any program-specific limitation on administrative expenses. All administrative expenses must be reasonable and necessary and conform to Cost Principles described in 2 CFR part 200 subpart E of the Uniform Guidance.

3. Subgrantees: A grantee under this competition may not award subgrants to entities to directly carry out project activities described in its application. Under 34 CFR 75.708(e), a grantee may contract for supplies, equipment, and other services in accordance with 2 CFR part 200.

4. Other General Requirements:

a. Recipients of funding under this competition must make positive efforts to employ and advance in employment qualified individuals with disabilities (see section 606 of IDEA).

b. Applicants for, and recipients of, funding must, with respect to the aspects of their proposed project relating to the absolute priority, involve individuals with disabilities, or parents of individuals with disabilities ages birth through 26, in planning, implementing, and evaluating the project (see section 682(a)(1)(A) of IDEA).

IV. Application and Submission Information

1. Application Submission Instructions: Applicants are required to follow the Common Instructions for Applicants to Department of Education Discretionary Grant Programs, published in the Federal Register on February 13, 2019 (84 FR 3768), and available at www.govinfo.gov/content/pkg/FR-2019-02-13/pdf/2019-02206.pdf, which contain requirements and information on how to submit an application.

2. Intergovernmental Review: This competition is subject to Executive Order 12372 and the regulations in 34 CFR part 79. Information about Intergovernmental Review of Federal Programs under Executive Order 12372 is in the application package for this competition.

3. Funding Restrictions: We reference regulations outlining funding restrictions in the Applicable Regulations section of this notice.

4. Recommended Page Limit: The application narrative is where you, the applicant, address the selection criteria that reviewers use to evaluate your application. We recommend that you (1) limit the application narrative to no more than 50 pages and (2) use the following standards:

• A “page” is 8.5” x 11”, on one side only, with 1” margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to the cover sheet; the budget section, including the narrative budget justification; the assurances and certifications; or the abstract (follow the guidance provided in the application package for completing the abstract), the table of contents, the list of priority requirements, the resumes, the reference list, the letters of support, or the appendices. However, the recommended page limit does apply to all of the application narrative, including all text in charts, tables, figures, graphs, and screen shots.

V. Application Review Information

1. Selection Criteria: The selection criteria for this competition are from 34 CFR 75.210 and are as follows:

(a) Significance (15 points).

(1) The Secretary considers the significance of the proposed project.

(2) In determining the significance of the proposed project, the Secretary considers the following factors:

(i) The potential contribution of the proposed project to increased knowledge or understanding of educational problems, issues, or effective strategies;

(ii) The extent to which the proposed project is likely to build local capacity to provide, improve, or expand services that address the needs of the target population;

(iii) The importance or magnitude of the results or outcomes likely to be attained by the proposed project, especially improvements in teaching and student achievement; and

(iv) The likely utility of the products (such as information, materials, processes, or techniques) that will result from the proposed project, including the potential for their being used effectively in a variety of other settings.

(b) Quality of the project design (35 points).

(1) The Secretary considers the quality of the design of the proposed project.

(2) In determining the quality of the design of the proposed project, the Secretary considers the following factors:

(i) The extent to which the goals, objectives, and outcomes to be achieved by the proposed project are clearly specified and measurable;

(ii) The extent to which the design of the proposed project includes a thorough, high-quality review of the relevant literature, a high-quality plan for project implementation, and the use of appropriate methodological tools to ensure successful achievement of project objectives;

(iii) The quality of the proposed demonstration design and procedures for documenting project activities and results;

(iv) The extent to which the design for implementing and evaluating the proposed project will result in information to guide possible replication of project activities or strategies, including information about the effectiveness of the approach or strategies employed by the project; and

(v) The extent to which performance feedback and continuous improvement are integral to the design of the proposed project.

(c) Adequacy of resources and quality of the management plan (25 points).

(1) The Secretary considers the adequacy of resources and the quality of the management plan for the proposed project.

(2) In determining the adequacy of resources and the quality of the management plan for the proposed project, the Secretary considers the following factors:

(i) The adequacy of support, including facilities, equipment, supplies, and other resources, from the applicant organization or the lead applicant organization;

(ii) The relevance and demonstrated commitment of each partner in the proposed project to the implementation and success of the project;

(iii) The extent to which the time commitments of the project director and principal investigator and other key project personnel are appropriate and adequate to meet the objectives of the proposed project;

(iv) How the applicant will ensure that a diversity of perspectives are brought to bear in the operation of the proposed project, including those of parents, teachers, the business community, a variety of disciplinary and professional fields, recipients or beneficiaries of services, or others, as appropriate;

(v) The adequacy of the management plan to achieve the objectives of the proposed project on time and within budget, including clearly defined responsibilities, timelines, and milestones for accomplishing project tasks; and

(vi) The adequacy of mechanisms for ensuring high-quality products and services from the proposed project.

(d) Quality of the project evaluation (25 points).

(1) The Secretary considers the quality of the evaluation to be conducted of the proposed project.

(2) In determining the quality of the evaluation, the Secretary considers the following factors:

(i) The extent to which the methods of evaluation are thorough, feasible, and appropriate to the goals, objectives, and outcomes of the proposed project;

(ii) The extent to which the methods of evaluation will provide performance feedback and permit periodic assessment of progress toward achieving intended outcomes;

(iii) The extent to which the methods of evaluation provide for examining the effectiveness of project implementation strategies;

(iv) The extent to which the evaluation will provide guidance about effective strategies suitable for replication or testing in other settings; and

(v) The extent to which the methods of evaluation include the use of objective performance measures that are clearly related to the intended outcomes of the project and will produce quantitative and qualitative data to the extent possible.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Specific Conditions: Consistent with 2 CFR 200.206, before awarding grants under this competition the Department conducts a review of the risks posed by applicants. Under 2 CFR 200.208, the Secretary may impose specific conditions, and under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

6. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection, analysis, and reporting. In this case the Secretary establishes a data collection period.

5. Performance Measures: For the purposes of the Government Performance and Results Act of 1993 (GPRA) and reporting under 34 CFR 75.110, we have established a set of performance measures, including long-term measures, that are designed to yield information on various aspects of the effectiveness and quality of the Model Demonstration Projects to Improve Services and Results for Infants, Toddlers, and Children with Disabilities under the Technical Assistance and Dissemination to Improve Services and Results for Children With Disabilities program. These measures are—

• Current Program Performance Measure: The percentage of effective evidence-based program models developed by model demonstration projects that are promoted to States and their partners through the Technical Assistance and Dissemination Network; and

• Pilot Program Performance Measure: The percentage of effective program models developed by model demonstration projects that are sustained beyond the life of the model demonstration project.

The current program performance measure and the pilot program performance measure apply to projects funded under this competition, and grantees are required to submit data on these measures as directed by OSEP.

Grantees will be required to report information on their project's performance in annual and final performance reports to the Department (34 CFR 75.590).

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

David Cantrell,
Deputy Director, Office of Special Education Programs. Delegated the authority to perform the functions and duties of the Assistant Secretary for the Office of Special Education and Rehabilitative Services.

[FR Doc. 2021-10729 Filed 5-20-21; 8:45 am]

BILLING CODE 4000-01-P